DEPARTMENT OF THE INTERIOR

National Park Service

[2253-665]

Notice of Inventory Completion: U.S. Department of the Interior, Bureau of Indian Affairs, Washington, DC and Oregon Museum of Science and Industry, Portland, OR

AGENCY: National Park Service, Interior.

ACTION: Notice.

SUMMARY: The Bureau of Indian Affairs and the Oregon Museum of Science and Industry have completed an inventory of human remains, in consultation with the appropriate Indian tribe, and determined that there is a cultural affiliation between the human remains and a present-day Indian tribe. Representatives of any Indian tribe that believes itself to be culturally affiliated with the human remains may contact the Oregon Museum of Science and Industry. Repatriation of the human remains to the Indian tribe stated below may occur if no additional claimants come forward.

DATES: Representatives of any Indian tribe that believes it has a cultural affiliation with the human remains should contact the Bureau of Indian Affairs through the Oregon Museum of Science and Industry at the address below by August 22, 2011.

ADDRESSES: Lori Erickson, Curator, Oregon Museum of Science and Industry, 1945 SE Water Ave., Portland, OR 97214, telephone (503) 797-4582.

SUPPLEMENTARY INFORMATION: Notice is here given in accordance with the Native American Graves Protection and Repatriation Act (NAGPRA), 25 U.S.C. 3003, of the completion of an inventory of human remains in the control of the U.S. Department of the Interior, Bureau of Indian Affairs, Washington, DC, and in the physical custody of the Oregon Museum of Science and Industry, Portland, OR. The human remains were removed from an area within the boundaries of the Hopi Reservation in Arizona.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Oregon Museum of Science and Industry professional staff on behalf of the Bureau of Indian Affairs in consultation with representatives of the Hopi Tribe of Arizona.

History and Description of the Remains

In the early 1940s, human remains representing a minimum of one individual were removed from an area of the Hopi Reservation in Arizona by Ray Ghents, Dr. Hewitt, and Dr. Fischer. The exact location of the area is unclear from museum records. Mr. Paul Ghents donated the remains to the Oregon Museum of Science and Industry on November 10, 1977. No known individual was identified. No associated funerary objects are present.

The human remains have been identified as Native American based on observable dental traits and museum documentation. The remains are approximately 500 years old.

Determinations Made by the Bureau of Indian Affairs and the Oregon Museum of Science and Industry

Officials of the Bureau of Indian Affairs and the Oregon Museum of Science and Industry have determined that:

• Pursuant to 25 U.S.C. 3001(9), the human remains described in this notice represent the physical remains of one individual of Native American ancestry.

• Pursuant to 25 U.S.C. 3001(2), there is a relationship of shared group identity that can be reasonably traced between the Native American human remains and the Hopi Tribe of Arizona.

Additional Requestors and Disposition

Representatives of any other Indian tribe that believes itself to be culturally affiliated with the human remains should contact Lori Erickson, Curator, Oregon Museum of Science and Industry, 1945 SE Water Ave., Portland, OR 97214, telephone (503) 797-4582, before August 22, 2011. Repatriation of the human remains to the Hopi Tribe of Arizona may proceed after that date if no additional claimants come forward.

The Bureau of Indian Affairs and the Oregon Museum of Science and Industry are responsible for notifying the Hopi Tribe of Arizona that this notice has been published.

Dated: July 14, 2011.
Sherry Hutt,
Manager, National NAGPRA Program.

[FR Doc. 2011-18346 Filed 7-20-11; 8:45 am]

BILLING CODE 4312-50-P